DEPARTMENT OF TRANSPORTATION

Federal Aviation Administration

Advisory Circular 35-1, Certification of Propellers

AGENCY: Federal Aviation Administration (FAA), DOT.

ACTION: Notice of issuance of advisory circular.

SUMMARY: This notice announces the issuance of Advisory Circular (AC) 35-1, Certification of Propellers. This AC provides guidance and describes acceptable methods, but not the only methods, that may be used to demonstrate compliance with provisions of the requirements of part 35 of Title 14 of the Code of Federal Regulations (14 CFR part 35).

DATE: The Engine and Propeller Directorate issued AC 35-1 on December 29, 2008.

FOR FURTHER INFORMATION CONTACT: The Federal Aviation Administration, Attn: Jay Turnberg, Engine and Propeller Standards Staff, ANE-111, 12 New England Executive Park, Burlington, MA 01803-5299; telephone: (781) 238-7116; fax: (781) 238-7199; e-mail: jay.turnberg@faa.gov.

We have filed in the docket all substantive comments received, and a report summarizing them. If you wish to review the docket in person, you may go to the above address between 9 a.m. and 5 p.m., Monday through Friday, except Federal holidays. If you wish to contact the above individual directly, you can use the above telephone number or e-mail address provided.

How to Obtain Copies: A paper copy of AC 35-1 may be obtained by writing to the U.S. Department of Transportation, Subsequent Distribution Office, DOT Warehouse, SVC 121.23, Ardmore East Business Center, 3341Q 75th Ave., Landover, MD 20785, telephone 301-322-5377, or by faxing your request to the warehouse at 301-386-5394. The AC will also be available on the Internet at http://www.faa.gov/regulations_policies (then click on “Advisory Circulars”).

Authority: 49 U.S.C. 106(g), 40113, 44701-44702, 44704.

Issued in Burlington, Massachusetts on December 29, 2008.
Peter A. White,
Acting Manager, Engine and Propeller Directorate, Aircraft Certification Service.

[FR Doc. E9-1177 Filed 1-22-09; 8:45 am]

BILLING CODE 4910-13-M